SMALL BUSINESS ADMINISTRATION

[Disaster Declaration #18213 and #18214; PENNSYLVANIA Disaster Number PA-00138]

Administrative Declaration of a Disaster for the Commonwealth of Pennsylvania

AGENCY: U.S. Small Business Administration.

ACTION: Notice.

SUMMARY: This is a notice of an Administrative declaration of a disaster for the Commonwealth of Pennsylvania dated 10/02/2023.

Incident: Severe Storms and Flash Flooding.

Incident Period: 07/15/2023 through 07/16/2023.

DATES: Issued on 10/02/2023.

Physical Loan Application Deadline Date: 12/01/2023.

Economic Injury (EIDL) Loan Application Deadline Date: 07/02/2024.

ADDRESSES: Submit completed loan applications to: U.S. Small Business Administration, Processing and Disbursement Center, 14925 Kingsport Road, Fort Worth, TX 76155.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the Administrator's disaster declaration, applications for disaster loans may be filed at the address listed above or other locally announced locations.

The following areas have been determined to be adversely affected by the disaster:

Primary Counties: Northampton.

Contiguous Counties:

Pennsylvania: Bucks, Carbon, Lehigh, Monroe.

New Jersey: Warren.

The Interest Rates are:

| Percent
For Physical Damage:
Homeowners with Credit Available Elsewhere | 5.000
Homeowners without Credit Available Elsewhere | 2.500
Businesses with Credit Available Elsewhere | 8.000
Businesses without Credit Available Elsewhere | 4.000
Non-Profit Organizations with Credit Available Elsewhere | 2.375
Non-Profit Organizations without Credit Available Elsewhere | 2.375
For Economic Injury:
Businesses & Small Agricultural Cooperatives without Credit Available Elsewhere | 4.000
Non-Profit Organizations without Credit Available Elsewhere | 2.375

The number assigned to this disaster for physical damage is 18213 6 and for economic injury is 18214 0.

The States which received an EIDL Declaration # are New Jersey, Pennsylvania.

(Catalog of Federal Domestic Assistance Number 59008)

Isabella Guzman,
Administrator.

[FR Doc. 2023-22214 Filed 10-4-23; 8:45 am]

BILLING CODE 8026-09-P